DEPARTMENT OF THE INTERIOR

National Park Service

[NPS-NCR-CHOH-22123; PPNCCHOHS0-PPMPSPD1Z.YM0000]

Notice of November 9, 2016, Meeting of the Chesapeake and Ohio Canal National Historical Park Commission

AGENCY: National Park Service, Interior.

ACTION: Meeting notice.

SUMMARY: This notice sets forth the meeting date of the Chesapeake and Ohio Canal National Historical Park Commission.

DATES: The public meeting of the Chesapeake and Ohio Canal National Historical Park Commission will be held on Wednesday, November 9, 2016, at 9 a.m. (Eastern).

ADDRESSES: The meeting of the Commission will be held on Wednesday, November 9, 2016, at 9 a.m., in the second floor conference room at park headquarters, 1850 Dual Highway, Suite 100, Hagerstown, Maryland 21740 to discuss the following:

1. Welcome and Introductions

2. History of the Chesapeake and Ohio Canal National Historical Park Commission

3. Review of Commission Charter

4. Review of Federal Advisory Committee Act

5. Discussion of General Policies and Specific Matters Related to the Administration of the Park

FOR FURTHER INFORMATION CONTACT: Kevin D. Brandt, Superintendent and Designated Federal Officer, Chesapeake and Ohio Canal National Historical Park, 1850 Dual Highway, Suite 100, Hagerstown, Maryland 21740-6620, or by email kevin_brandt@nps.gov.

SUPPLEMENTARY INFORMATION: The Commission is established by Section 6 of the Chesapeake and Ohio Canal Development Act (16 U.S.C. 410y-4), Public Law 91-664, 84 Stat. 1978 (1971), as amended, and is regulated by the Federal Advisory Committee Act, as amended, 5 U.S.C. Appendix 1-16. The purpose of the Commission is to consult with the Secretary of the Interior, or her designee, with respect to matters relating to the development of the Chesapeake and Ohio Canal National Historical Park, and with respect to carrying out the provisions of section 6 establishing the Canal.

The meeting is open to the public. It is expected that 15 persons will be able to attend the meeting in addition to Commission members. Interested persons may make oral/written presentations to the Commission during the business meeting or file written statements. Such requests should be made to the park superintendent prior to the meeting. Before including your address, telephone number, email address, or other personal identifying information in your comment, you should be aware that your entire comment—including your personal identifying information—may be made publicly available at any time. While you may ask us in your comment to withhold your personal identifying information from public review, we cannot guarantee that we will be able to do so.

Alma Ripps,
Chief, Office of Policy.

[FR Doc. 2016-25544 Filed 10-20-16; 8:45 am]

BILLING CODE 4312-52-P